ENVIRONMENTAL PROTECTION AGENCY

[FRL-7959-9]

Notice of a Public Meeting on Designated Uses and Use Attainability Analyses

AGENCY: Environmental Protection Agency (EPA).

ACTION: Notice of a public meeting.

SUMMARY: The Environmental Protection Agency (EPA) is holding a public meeting to discuss designated uses and use attainability analyses. The meeting is co-sponsored with the Water Environment Federation (WEF). The primary goals of the meeting are to help educate the public on current water quality standards regulations, guidance and practices related to designated uses and use attainability analyses, and to provide a forum for the public to join in discussions, ask questions, and provide feedback.

DATES: The meeting will be held on Tuesday, September 20, 2005, from 12:30 p.m. to 5:30 p.m. The meeting will continue on Wednesday, September 21, 2005, from 8:30 a.m. to 3 p.m. All times are Eastern Daylight Time.

ADDRESSES: The meeting will be held at the Westin Peachtree Plaza, 210 Peachtree Street NW., Atlanta GA 30303, across the street from the Peachtree Center MARTA station. The telephone number for the hotel is (404) 659-1400. A block of rooms has been reserved. When making room reservations, please reference the group name “EPA Multi-Stakeholders Meeting”. The cutoff date for the reserved block of rooms is Friday, August 26th.

FOR FURTHER INFORMATION CONTACT: Ms. Patricia Harrigan, Standards and Health Protection Division, MC 4305T, Environmental Protection Agency, 1200 Pennsylvania Ave., NW., Washington, DC 20460; Telephone number: (202) 566-1666; Fax number: (202) 566-1054; e-mail address: harrigan.patricia@epa.gov.

SUPPLEMENTARY INFORMATION: The purpose of this public meeting is to help educate the public on current water quality standards regulations, guidance and practices related to designated uses and use attainability analyses, and to provide a forum for the public to join in discussions, ask questions, and provide feedback. EPA also welcomes written remarks received by September 21, 2005, which can be sent to Ms. Harrigan by e-mail or by mail at the address listed in the FOR FURTHER INFORMATION CONTACT section.

Additional Meetings

EPA anticipates announcing and holding two additional public meetings on these subjects in 2006. One meeting will likely be held in the midwestern U.S., and the other will likely be held in the western U.S.

Special Accommodations

Any person needing special accommodations at this meeting, including wheelchair access, should contact Ms. Harrigan at the phone number or e-mail address listed in the FOR FURTHER INFORMATION CONTACT section. Requests for special accommodations should be made at least five business days in advance of the public meeting.

Dated: August 12, 2005.
Ephraim King,
Director, Office of Science and Technology.

[FR Doc. 05-16928 Filed 8-24-05; 8:45 am]

BILLING CODE 6560-50-P